DEPARTMENT OF ENERGY

Federal Energy Regulatory Commission

[Docket Nos. EL18-182-000, ER13-2266-004, ER18-1509-000, ER18-1509-001, ER18-2364-000, ER19-1428-000, ER18-1639-000, ER18-1639-001, ER18-1639-002, ER18-1639-003]

ISO New England Inc., Constellation Mystic Power, LLC; Supplemental Notice of Staff-Led Public Meeting

As announced in the Notice of Staff-Led Public Meeting issued on May 21, 2019, Federal Energy Regulatory Commission (Commission) staff will convene a staff-led public meeting on Monday, July 15, 2019, from 10:00 a.m. to 5:00 p.m. (ET). The public meeting will be held in the Commission Meeting Room at Commission headquarters, 888 First Street NE, Washington, DC 20426. Commissioners may attend and participate.

On April 22, 2019, ISO New England Inc. (ISO-NE), New England States Committee on Electricity (NESCOE), and New England Power Pool (NEPOOL) Participants Committee jointly requested a public meeting to share with Commission staff, without violating the Commission's regulations prohibiting ex parte communications,¹ information about efforts to develop proposed tariff revisions in response to a Commission directive ² to reflect improvements to ISO-NE's market design to better address regional fuel security concerns. This notice of public meeting is in response to that request.

¹ Commission Rules of Practice and Procedure, Rule 2201, 18 CFR 385.2201 (2018).

² See ISO New England Inc., 164 FERC 61,003, at P 2 (2018).

This staff-led public meeting will consist of three presentations by representatives from ISO-NE, NEPOOL, and NESCOE with time for questions and answers at the end of each presentation. Questions will be permitted from only Commission staff and Commissioners. The Commission will not solicit post-meeting comments. Parties who wish to comment on ISO-NE's proposal may do so when ISO-NE files its proposal.

Attached to this supplemental notice is an agenda for this public meeting, including the list of speakers for each presentation.

All interested persons may attend the public meeting. Registration is not required. However, in-person attendees are encouraged to pre-register on-line at: https://www.ferc.gov/whats-new/registration/07-15-19-form.asp. In-person attendees should allow time to pass through building security procedures before the 10:00 a.m. start time of the public meeting.

The public meeting will be webcast. A link to the webcast of this event will be available in the Commission Calendar of Events at www.ferc.gov. The Capitol Connection provides technical support for webcasts and offers the option of listening to the meeting via phone-bridge for a fee. If you have any questions, visit http://www.CapitolConnection.org or call (703) 993-3100.

The public meeting will not be transcribed. PowerPoint slides or printed documents used in the public meeting will be entered into the record in Docket No. EL18-182-000.

Commission public meetings are accessible under section 508 of the Rehabilitation Act of 1973. For accessibility accommodations, please send an email to accessibility@ferc.gov or call toll free 1-866-208-3372 (voice) or 202-208-8659 (TTY), or send a fax to 202-208-2106 with the required accommodations.

For more information about this public meeting, please contact Frank Swigonski by phone at (202) 502-8089 or by email at frank.swigonski@ferc.gov. For information related to logistics, please contact Sarah McKinley at (202) 502-8368 or by email at sarah.mckinley@ferc.gov.

Dated: July 3, 2019.
Kimberly D. Bose,
Secretary.

[FR Doc. 2019-14707 Filed 7-9-19; 8:45 am]

BILLING CODE 6717-01-P